DEPARTMENT OF COMMERCE

International Trade Administration

[A-570-053]

Certain Aluminum Foil From the People's Republic of China: Postponement of Preliminary Determination of the Less-Than-Fair-Value Investigation

AGENCY: Enforcement and Compliance, International Trade Administration, Department of Commerce.

DATES: Effective August 1, 2017.

FOR FURTHER INFORMATION CONTACT: Tom Bellhouse at (202) 482-2057 or Michael J. Heaney at (202) 482-4475, AD/CVD Operations, Enforcement and Compliance, International Trade Administration, Department of Commerce, 1401 Constitution Avenue NW., Washington, DC 20230.

SUPPLEMENTARY INFORMATION:

Background

On March 30, 2017, the Department of Commerce (the Department) initiated an antidumping duty investigation concerning imports of certain aluminum foil from the People's Republic of China.¹ The notice of initiation stated that the Department, in accordance with section 733(b)(1)(A) of the Tariff Act of 1930, as amended (the Act), and 19 CFR 351.205(b)(1), would issue its preliminary determination no later than 140 days after the date of the initiation, unless postponed.² The current deadline for the preliminary determination of this investigation is no later than August 15, 2017.

¹ See Certain Aluminum Foil from the People's Republic of China: Initiation of Less-Than-Fair-Value Investigation, 82 FR 15691 (March 30, 2017).

² Id., 82 FR at 15695.

Postponement of Preliminary Determination

On July 17, 2017, The Aluminum Association Trade Enforcement Working Group (the petitioners), made a timely request pursuant to section 733(c)(1)(A) of the Act and 19 CFR 351.205(e), for a 50-day postponement of the preliminary determination in this investigation in order to provide the Department with sufficient time to review submissions and request supplemental information.³ No other parties commented.

³ See the letter from the petitioners to the Secretary of Commerce entitled, “Antidumping Investigation of Certain Aluminum Foil from the People's Republic of China: Petitioners' Request for Postponement of the Preliminary Determination,” dated July 17, 2017.

For the reasons stated above, and because there are no compelling reasons to deny the petitioners' request, the Department is postponing the deadline for the preliminary determination by 50 days, until October 4, 2017, in accordance with section 733(c)(1)(A) of the Act and 19 CFR 351.205(b)(2).

In accordance with section 735(a)(1) of the Act, the deadline for the final determination of this investigation will continue to be 75 days after the date of the preliminary determination, unless postponed at a later date.

This notice is issued and published pursuant to section 733(c)(2) of the Act and 19 CFR 351.205(f)(1).

Dated: July 26, 2017.
Gary Taverman,
Deputy Assistant Secretary for Antidumping and Countervailing Duty Operations, Performing the Non-Exclusive Functions and Duties of the Assistant Secretary for Enforcement and Compliance.

[FR Doc. 2017-16162 Filed 7-31-17; 8:45 am]

BILLING CODE 3510-DS-P